DEPARTMENT OF HOMELAND SECURITY

Federal Emergency Management Agency

[Docket ID FEMA-2013-0043; OMB No. 1660-0002]

Agency Information Collection Activities: Submission for OMB Review; Comment Request; Disaster Assistance Registration

AGENCY: Federal Emergency Management Agency, DHS.

ACTION: Notice.

SUMMARY: The Federal Emergency Management Agency (FEMA) is submitting a request for review and approval of a collection of information under the emergency processing procedures in Office of Management and Budget (OMB) regulation 5 CFR 1320.13. FEMA is requesting that this information collection be approved by November 12, 2013. The approval will authorize FEMA to use the collection through May 12, 2014. FEMA plans to follow this emergency request with a request for a 3-year renewal approval. The request will be processed under OMB's normal clearance procedures in accordance with the provisions of OMB regulation 5 CFR 1320.10. To help us with the timely processing of the emergency and normal clearance submissions to OMB, FEMA invites the general public to comment on the proposed collection of information.

DATES: Comments must be submitted to OMB on or before November 12, 2013. You may submit comments to FEMA on or before November 12, 2013.

ADDRESSES: Submit written comments on the proposed information collection to the Office of Information and Regulatory Affairs, Office of Management and Budget. Comments should be addressed to the Desk Officer for the Department of Homeland Security, Federal Emergency Management Agency (Proposed change to existing collection, FEMA FORMS 009-0-1, 009-0-2, 009-0-1Int, 009-0-2Int, 009-0-1S, 009-0-2S, 009-0-1T, and eligibility/verification correspondence). oira.submission@omb.eop.gov or faxed to (202) 395-5806. Comments may also be submitted to the following:

(1) Online. Submit comments at www.regulations.gov under Docket ID FEMA-2013-0043. Follow the instructions for submitting comments.

(2) Mail. Submit written comments to Regulatory Affairs Division, Office of Chief Counsel, DHS/FEMA, 500 C Street SW., Room 840, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Requests for additional information or copies of the information collection should be made to Director, Records Management Division, Office of the Chief Administrative Officer, Mission Support Bureau, Federal Emergency Management Agency, 1800 South Bell Street, Arlington, VA 20598-3005, facsimile number (202) 646-3347, or at email address FEMA-Information-Collections@dhs.gov.

SUPPLEMENTARY INFORMATION: The Robert T. Stafford Disaster Relief and Emergency Assistance Act, 42 U.S.C. 5121-5207 (the Act) is the legal basis for FEMA to provide disaster related assistance and services to individuals who apply for disaster assistance benefits in the event of a federally declared disaster. The Individuals and Households Program (IHP) (the Act at 5174, Federal Assistance to Individuals and Households) provides financial assistance to eligible individuals and households who, as a direct result of a major disaster or emergency have necessary expenses and serious needs. Individuals and households that apply for this assistance must provide information detailing their losses and needs. In response to Super Storm Sandy (October 2012), Congress added “child care” expenses as a category of IHP assistance through the Sandy Recovery Improvement Act of 2013 (SRIA), Public Law 113-2. Section 1108 of the SRIA amends section 408(e)(1) of the Stafford Act (42 U.S.C. 5174(e)(1)), giving FEMA the specific authority to pay for “child care” expenses as disaster assistance under the Other Needs Assistance (ONA) provision of IHP in addition to funeral, medical and dental expenses.

FEMA's current registration application and script for IHP disaster assistance does not ask questions regarding a survivor/registrant's need for assistance with “child care” expenses. Thus, FEMA needs to change its application to include a question about whether the survivor/registrant needs financial assistance for child care expenses as a result of a disaster. FEMA also needs to collect necessary paperwork from the survivor/registrant to determine eligibility and verify the expenses associated with child care through correspondence with the survivor/registrant.

Collection of Information

Title: Disaster Assistance Registration.

Type of Information Collection: Revision of a currently approved collection.

OMB Number: 1660-0002.

FEMA Forms: FEMA Form 009-0-1T (English) Tele-Registration, Disaster Assistance Registration; FEMA Form 009-0-1Int (English) Internet, Disaster Assistance Registration; FEMA Form 009-0-2Int (Spanish) Internet, Registro Para Asistencia De Desastre; FEMA Form 009-0-1 (English) Paper Application/Disaster Assistance Registration; FEMA Form 009-0-2 (Spanish), Solicitud en Papel/Registro Para Asistencia De Desastre; FEMA Form 009-0-1S (English) Smartphone, Disaster Assistance Registration; FEMA Form 009-0-2S (Spanish) Smartphone, Registro Para Asistencia De Desastre; and eligibility/verification correspondence.

Abstract: FEMA seeks to add a question to the registration process asking about any assistance to cover child care expenses and cover eligibility/verification correspondence.

Affected Public: Individuals or households.

Number of Responses: 3,264,753.

Estimated Time per Respondent: .19 hours.

Estimated Total Annual Burden Hours: 626,604.5.

Estimated Cost: $19,211,690.27.

Frequency of Response: Once.

Comments

Written comments are solicited to (a) evaluate whether the proposed data collection is necessary for the proper performance of the agency, including whether the information shall have practical utility; (b) evaluate the accuracy of the agency's estimate of the burden of the proposed information collection, including the validity of the methodology and assumptions used; (c) enhance the quality, utility, and clarity of the information to be collected; and (d) minimize the burden of the collection of information on those who are to respond, including through the use of appropriate automated, electronic, mechanical, or other technology, e.g., permitting electronic submission of responses. Submit comments to OMB within November 12, 2013. To ensure that FEMA is fully aware of any comments or concerns that you share with OMB, please provide FEMA with a copy of your comments. Submit comments to the FEMA address listed in the FOR FURTHER INFORMATION CONTACT caption.

Dated: September 30, 2013.
Charlene D. Myrthil,
Director, Records Management Division, Mission Support Bureau, Federal Emergency Management Agency, Department of Homeland Security.

[FR Doc. 2013-24328 Filed 10-21-13; 8:45 am]

BILLING CODE 9111-23-P